DEPARTMENT OF JUSTICE

Antitrust Division

Notice Pursuant to the National Cooperative Research and Production Act of 1993—Telemanagement Forum (TM Forum)

Notice is hereby given that, on July 13, 2023, pursuant to section 6(a) of the National Cooperative Research and Production Act of 1993, 15 U.S.C. 4301 et seq. (“the Act”), TM Forum, a New Jersey Non-Profit Corporation (“the Forum”) has filed written notifications simultaneously with the Attorney General and the Federal Trade Commission disclosing changes in its membership. The notifications were filed for the purpose of extending the Act's provisions limiting the recovery of antitrust plaintiffs to actual damages under specified circumstances. Specifically, Intersec, Paris La Défense—Cedex, FRANCE; Swisscom (Schweiz) AG, Bern, SWITZERLAND; T-Mobile Netherlands BV, Den Haag, NETHERLANDS; Deutsche Glasfaser Management GmbH, Borken, GERMANY; Digia Plc, Basware, FINLAND; Inmarsat Global Limited, London, UNITED KINGDOM; Lifecycle Software, Newbury, UNITED KINGDOM; Ni2, Montreal, CANADA; Concertia Technologies Inc, Halifax, CANADA; Wavelo, Toronto, CANADA; TPG Telecom Limited, North Sydney, AUSTRALIA; Hong Kong Telecommunications (HKT) Limited, Causeway Bay, HONG KONG-CHINA; Entel PCS Telecomunicaciones S.A., Santiago, CHILE; Bouygues Telecom, Meudon-la-Forêt, FRANCE; Kratos RT Logic, Inc., Colorado Springs, CO; ITgma, Skopje, MACEDONIA; PT LINK NET TBK, Jakarta, INDONESIA; Primforce Technologies Ltd., Hangzhou, PEOPLE'S REPUBLIC OF CHINA; CMPak Limited, Islamabad, PAKISTAN; Zhejiang University, Hangzhou, PEOPLE'S REPUBLIC OF CHINA; Shenzhen Greater Bay Area Financial Institute, Shenzhen, PEOPLE'S REPUBLIC OF CHINA; X3T Broadband Ltd, Dublin, IRELAND; Exos Systems Limited, Castel, UNITED KINGDOM; Connectbase, Westborough, MA; Cubastion Consulting Private Limited, Gurgaon, INDIA; Telcovas Solutions and Services, Sharjah, UNITED ARAB EMIRATES; IO-Transform Ltd, London, UNITED KINGDOM; Blueoceandigital India Pvt Ltd, Bangalore, INDIA; Paus TV (barndoor Technology Limited), Liverpool, UNITED KINGDOM; Infraon Corp, Lewes, DE; Kumoco Ltd, London, UNITED KINGDOM; Orange County Public Works, Santa Ana, CA; Beesion Technologies, Fort Lauderdale, FL; Ab Initio Software Limited, Weybridge, UNITED KINGDOM; Brillio, Edison, NJ; TerreStar Solutions Inc. DBA Strigo, Montreal, CANADA; OMANTEL, Ruwi, OMAN; Dawiyat, Riyadh, SAUDI ARABIA; and Knot Solutions Pvt. Ltd, Hyderabad, INDIA, have been added as parties to this venture.

Also, Anodot, Raanana, ISRAEL; Axiata Intelligence Unit, KL Sentral, MALAYSIA; Blue Prism, London, UNITED KINGDOM; CYPRUS TELECOMMUNICATIONS AUTHORITY, Nicosia, CYPRUS; Etisalat Egypt, New Cairo, EGYPT; EverestIMS Technologies, Bangalore, INDIA; GuoChuang Cloud Technology Co. Ltd., Hefei, PEOPLE'S REPUBLIC OF CHINA; helloFiber GmbH, Koln, GERMANY; ITEA Technologies, LLC, Richardson, TX; James Madison University, Harrisonburg, VA; L3Harris Technologies, Inc., Melbourne, FL; MTUCI, Moscow, RUSSIA; Nanjing Howso Technology Co., LTD, Nanjing, PEOPLE'S REPUBLIC OF CHINA; ONEiO, Helsinki, FINLAND; Oxio, Quebec, CANADA; PrologMobile, Louisville, CO; Selector AI, Santa Clara, CA; SENAC, Vila Buarque, BRAZIL; SKY BRASIL, São Paulo, BRAZIL; Smart City College of Beijing Union University, Beijing, PEOPLE'S REPUBLIC OF CHINA; The College Board, New York, NY; T-Mobile Netherlands BV, Den Haag, NETHERLANDS; Université de Paris, Paris, FRANCE; University “POLITEHNICA” of Bucharest—Automatic Control and Computers Faculty, Bucharest, ROMANIA; and Zhongguancun Sifang Model Service Industry Technology Strategic Alliance, Beijing, PEOPLE'S REPUBLIC OF CHINA have withdrawn as parties to this venture.

Additionally, the following members have changed their names: A1 Group to Telekom Austria AG, Vienna, AUSTRIA; Cortex to CORTEX, Brierley Hill, UNITED KINGDOM; OryxGateway to OryxGateway FZ LLC, Dubai, UNITED ARAB EMIRATES; Vodafone New Zealand Limited to One NZ Group Ltd., Auckland, NEW ZEALAND; and Telecom Italia Group to Telecom Italia SpA, Milano, ITALY.

No other changes have been made to either the membership or planned activity of the group research project. Membership in this group research project remains open, and the Forum intends to file additional written notifications disclosing all changes in membership.

On October 21, 1988, the Forum filed its original notification pursuant to section 6(a) of the Act. The Department of Justice published a notice in the Federal Register pursuant to section 6(b) of the Act on December 8, 1988 (53 FR 49615).

The last notification was filed with the Department on April 13, 2023. A notice was published in the Federal Register pursuant to section 6(b) of the Act on June 13, 2023 (88 FR 38538).

Suzanne Morris,
Deputy Director Civil Enforcement Operations, Antitrust Division.

[FR Doc. 2023-20780 Filed 9-25-23; 8:45 am]

BILLING CODE P